DEPARTMENT OF COMMERCE

International Trade Administration

[A-570-904]

Certain Activated Carbon From the People's Republic of China: Preliminary Results of Antidumping Duty Administrative Review, Preliminary Determination of No Shipments; 2020-2021

AGENCY: Enforcement and Compliance, International Trade Administration, Department of Commerce.

SUMMARY: The Department of Commerce (Commerce) preliminarily determines that Jilin Bright Future Chemicals Co., Ltd. (Jilin Bright), an exporter of certain activated carbon from the People's Republic of China (China), sold subject merchandise in the United States at prices below normal value (NV) during the period of review (POR) April 1, 2020, through March 31, 2021. Further, Commerce preliminarily determines that Datong Juqiang Activated Carbon Co., Ltd. (Datong Juqiang), an exporter of certain activated carbon from China, did not sell subject merchandise in the United States at prices below NV during the POR. Interested parties are invited to comment on these preliminary results.

DATES: Applicable May 6, 2022.

FOR FURTHER INFORMATION CONTACT: Jinny Ahn or Joshua Simonidis, AD/CVD Operations, Office VIII, Enforcement and Compliance, International Trade Administration, Department of Commerce, 1401 Constitution Avenue NW, Washington, DC 20230; telephone: (202) 482-0339 or (202) 482-0608, respectively.

SUPPLEMENTARY INFORMATION:

Background

This administrative review is being conducted in accordance with section 751(a) of the Tariff Act of 1930, as amended (the Act). Commerce published the notice of initiation of this administrative review on June 11, 2021.¹ On November 15, 2021, Commerce extended the preliminary results deadline until April 29, 2021.²

¹ See Initiation of Antidumping and Countervailing Duty Administrative Reviews, 86 FR 31282 (June 11, 2021).

² See Memorandum, “Certain Activated Carbon from the People's Republic of China: Extension of Deadline for Preliminary Results of the Fourteenth Antidumping Duty Administrative Review,” dated November 15, 2021.

Scope of the Order ³

³ See Notice of Antidumping Duty Order: Certain Activated Carbon from the People's Republic of China, 72 FR 20988 (April 27, 2007) (Order).

The merchandise subject to the Order is certain activated carbon. The products are currently classifiable under the Harmonized Tariff Schedule of the United States (HTSUS) subheading 3802.10.00. Although the HTSUS subheading is provided for convenience and customs purposes, the written description of the scope of the Order remains dispositive.⁴

⁴ For a complete description of the scope of the Order, see Memorandum, “Decision Memorandum for the Preliminary Results of Antidumping Duty Administrative Review: Certain Activated Carbon from the People's Republic of China; 2020-2021,” dated concurrently with, and hereby adopted by, this notice (Preliminary Decision Memorandum).

Continuation of Administrative Review for Jacobi ⁵

⁵ In the third administrative review of the Order, Commerce found that Jacobi Carbons AB, Tianjin Jacobi International Trading Co. Ltd. (Tianjin Jacobi), and Jacobi Carbons Industry (Tianjin) (Jacobi Carbons) (collectively, Jacobi) should be treated as a single entity, and because there were no facts presented on the record of this review which would call into question our prior finding, we continue to treat these companies as part of a single entity for this administrative review, pursuant to sections 771(33)(E), (F), and (G) of the Act, and 19 CFR 351.401(f). See Certain Activated Carbon from the People's Republic of China: Final Results and Partial Rescission of Third Antidumping Duty Administrative Review, 76 FR 67142, 67145, n.25 (October 31, 2011); Further, in a changed circumstances review of the order, Commerce determined that Jacobi should be collapsed with its new wholly-owned Chinese affiliate, Jacobi Adsorbent Materials (JAM), and the single entity, inclusive of JAM, should be assigned the same antidumping (AD) cash deposit rate assigned to Jacobi for purposes of determining AD liability in this proceeding. See Certain Activated Carbon from the People's Republic of China: Notice of Final Results of Antidumping Duty Changed Circumstances Review, 86 FR 58874 (October 25, 2021). Therefore, for these final results of this administrative review, we intend to assign the new Jacobi single entity, inclusive of JAM, the same AD rate as the rate assigned to Jacobi (i.e., the China-wide rate (2.42 dollars per kilogram)) for purposes of cash deposit and assessment.

Pursuant to 19 CFR 351.213(d)(1), Commerce will rescind an administrative review, in whole or in part, if a party who requested the review withdraws the request within 90 days of the date of publication of the notice of initiation of the requested review. On August 26, 2021, Jacobi timely withdrew its request for review.⁶ However, because there is still an active review request for Jacobi,⁷ we are not rescinding this review with respect to Jacobi, pursuant to 19 CFR 351.213(d)(1).

⁶ See Jacobi's Letter, “Jacobi's Withdrawal of Request for Administrative Review,” dated August 26, 2021.

⁷ See Calgon Carbon Corporation and Cabot Norit Americas Inc.'s (collectively, the petitioners) Letter, “Petitioners' Request for Initiation of fourteenth Annual Administrative Review,” dated April 30, 2021.

Preliminary Determination of No Shipments

Based on our analysis of U.S. Customs and Border Protection (CBP) information, and the no shipment certifications submitted by Beijing Pacific Activated Carbon Products Co., Ltd., Shanxi Dapu International Trade Co., Ltd, and Tianjin Channel Filters Co., Ltd., Commerce preliminarily determines that these companies had no shipments of subject merchandise during the POR.

Jacobi submitted an untimely no shipment certification, which Commerce consequently rejected.⁸ For additional information regarding this determination, see the Preliminary Decision Memorandum.

⁸ See Jacobi's Letter, “Jacobi's Withdrawal of Request for Administrative Review and No Shipment Certification,” dated August 11, 2021; see also Commerce's Letter, “Notification of Untimely Filed No Shipment Letter,” dated August 18, 2021.

Consistent with our practice in non-market economy (NME) cases, we are not rescinding this review but instead intend to complete the review with respect to these three companies for which we have preliminarily found no shipments and issue appropriate instructions to CBP based on the final results of the review.⁹

⁹ See Non-Market Economy Antidumping Proceedings: Assessment of Antidumping Duties, 76 FR 65694, 65694-95 (October 24, 2011) (NME Practice).

Methodology

Commerce is conducting this review in accordance with section 751(a)(1)(B) of the Act. We calculated export prices and constructed export prices in accordance with section 772 of the Act. Because China is an NME country within the meaning of section 771(18) of the Act, NV has been calculated in accordance with section 773(c) of the Act.

For a full description of the methodology underlying our conclusions, see the Preliminary Decision Memorandum. A list of the topics discussed in the Preliminary Decision Memorandum is included as Appendix I to this notice. The Preliminary Decision Memorandum is a public document and is made available to the public via Enforcement and Compliance's Antidumping and Countervailing Duty Centralized Electronic Service System (ACCESS). ACCESS is available to registered users at https://access.trade.gov. In addition, a complete version of the Preliminary Decision Memorandum is available at https://access.trade.gov/public/FRNoticesListLayout.aspx.

Preliminary Results of the Review

Commerce preliminarily finds that six companies for which a review was requested, including Jacobi,¹⁰ did not establish eligibility for a separate rate because they failed to provide either a separate rate application or separate rate certification. As such, we preliminarily determine that these six companies are part of the China-wide entity.¹¹

¹⁰ See Appendix II of this notice for a full list of the six companies.

¹¹ Because no interested party requested a review of the China-wide entity and Commerce no longer considers the China-wide entity as an exporter conditionally subject to administrative reviews, we did not conduct a review of the China-wide entity. Thus, the rate for the China-wide entity is not subject to change as a result of this review. See Antidumping Proceedings: Announcement of Change in Department Practice for Respondent Selection in Antidumping Duty Proceedings and Conditional Review of the Nonmarket Economy Entity in NME Antidumping Duty Proceedings, 78 FR 65963, 65969-70 (November 4, 2013). The China-wide entity rate of 2.42 U.S. dollars per kilogram was last reviewed in Certain Activated Carbon from the People's Republic of China: Final Results of Antidumping Duty Administrative Review; 2012-2013, 79 FR 70163 (November 25, 2014).

For those companies that have established their eligibility for a separate rate,¹² Commerce preliminarily determines that the following weighted-average dumping margins exist for the POR:

¹² See Preliminary Decision Memorandum.

Exporter | Weighted- average dumping margin (U.S. dollars per kilogram) ¹³
Datong Juqiang Activated Carbon Co., Ltd | 0.00
Jilin Bright Future Chemicals Co., Ltd | 0.35
Carbon Activated Tianjin Co., Ltd | 0.35
Datong Municipal Yunguang Activated Carbon Co., Ltd | 0.35
Ningxia Guanghua Cherishmet Activated Carbon Co., Ltd | 0.35
Ningxia Huahui Environmental Technology Co., Ltd. (formerly Ningxia Huahui Activated Carbon Co., Ltd.) ¹⁴ | 0.35
Ningxia Mineral & Chemical Limited ¹⁵ | 0.35
Shanxi Industry Technology Trading Co., Ltd | 0.35
Shanxi Sincere Industrial Co., Ltd | 0.35
Tancarb Activated Carbon Co., Ltd | 0.35

In these preliminary results, of the two mandatory respondents, only Jilin Bright, has a calculated weighted-average dumping margin which is not zero, de minimis, or based entirely on facts available. Therefore, in accordance with section 735(c)(5)(A) of the Act, we have preliminarily assigned Jilin Bright's calculated rate as the separate rate for the respondents that were not selected for individual examination in this administrative review but qualified for a separate rate.

¹³ In the second administrative review of the Order, Commerce determined that it would calculate per-unit weighted-average dumping margins and assessment rates for all future reviews. See Certain Activated Carbon from the People's Republic of China: Final Results and Partial Rescission of Second Antidumping Duty Administrative Review, 75 FR 70208, 70211 (November 17, 2010).

¹⁴ In a changed circumstances review of the Order, Commerce found that Ningxia Huahui Environmental Technology Co., Ltd. is the successor-in-interest to Ningxia Huahui Activated Carbon Co. Ltd. (Ningxia Huahui) and should be assigned the same AD cash deposit rate assigned to Ningxia Huahui for purposes of determining AD liability in this proceeding. See Certain Activated Carbon from the People's Republic of China: Notice of Final Results of Antidumping Duty Changed Circumstances Review, 86 FR 64184 (November 17, 2021). Therefore, for the final results of this administrative review, we intend to assign the same AD rate to Ningxia Huahui Environmental Technology Co., Ltd. as the rate assigned to Ningxia Huahui for cash deposit and assessment purposes.

¹⁵ Two of the company names for which Commerce initiated this review are different name variations of the same company (i.e., Ningxia Mineral & Chemical Limited, and Ningxia Mineral & Chemical Ltd.), and therefore, were treated as the same company for purposes of this review. See Initiation Notice, 86 FR at 31289.

Disclosure and Public Comment

Commerce intends to disclose the calculations performed for these preliminary results to the parties no later than five days after the date of publication of this notice in accordance with 19 CFR 351.224(b). Pursuant to 19 CFR 351.309(c)(ii), interested parties may submit case briefs no later than 30 days after the date of publication of these preliminary results of review. Parties who submit case briefs or rebuttal briefs in this proceeding are encouraged to submit with each argument: (1) A statement of the issue; (2) a brief summary of the argument; and (3) a table of authorities. Rebuttal briefs, limited to issues raised in the case briefs, may be filed no later than seven days after the case briefs are filed.¹⁶ Note that Commerce has temporarily modified certain of its requirements for serving documents containing business proprietary information, until further notice.¹⁷

¹⁶ See 19 CFR 351.309(d); see also Temporary Rule Modifying AD/CVD Service Requirements Due to COVID-19, 85 FR 17006 (March 26, 2020) (“To provide adequate time for release of case briefs via ACCESS, E&C intends to schedule the due date for all rebuttal briefs to be 7 days after case briefs are filed (while these modifications are in effect).”).

¹⁷ See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance within 30 days of the date of publication of this notice. Requests should contain: (1) The party's name, address and telephone number; (2) the number of participants; and (3) a list of issues parties intend to discuss. Issues raised in the hearing will be limited to those raised in the respective case and rebuttal briefs.¹⁸ If a request for a hearing is made, Commerce intends to hold the hearing at a date and time to be determined.¹⁹ Parties should confirm by telephone the date, time, and location of the hearing two days before the scheduled date.

¹⁸ See 19 CFR 351.310(c).

¹⁹ See 19 CFR 351.310(d).

All submissions to Commerce must be filed electronically using ACCESS ²⁰ and must also be served on interested parties.²¹ An electronically filed document must be received successfully in its entirety by ACCESS, by 5 p.m. Eastern Time (ET) on the date that the document is due.

²⁰ See 19 CFR 351.303.

²¹ See 19 CFR 351.303(f).

Unless otherwise extended, Commerce intends to issue the final results of this administrative review, which will include the results of its analysis of issues raised in any briefs, within 120 days of publication of these preliminary results, pursuant to section 751(a)(3)(A) of the Act.

Assessment Rates

Upon issuance of the final results, Commerce will determine, and CBP shall assess, antidumping duties on all appropriate entries covered by this review.²² Commerce intends to issue assessment instructions to CBP 35 days after the publication date of the final results of this review in the Federal Register. If a timely summons is filed at the U.S. Court of International Trade, the assessment instructions will direct CBP not to liquidate relevant entries until the time for parties to file a request for a statutory injunction has expired (i.e., within 90 days of publication).

²² See 19 CFR 351.212(b)(1).

For any individually examined respondent whose (estimated) ad valorem weighted-average dumping margin is not zero or de minimis (i.e., less than 0.50 percent) in the final results of this review, Commerce will calculate importer-specific assessment rates on the basis of the ratio of the total amount of dumping calculated for the importer's examined sales and the total quantity of those sales, in accordance with 19 CFR 351.212(b)(1).²³ Commerce will also calculate (estimated) ad valorem importer-specific assessment rates with which to assess whether the per-unit assessment rate is de minimis.²⁴ We will instruct CBP to assess antidumping duties on all appropriate entries covered by this review when the importer-specific ad valorem assessment rate calculated in the final results of this review is not zero or de minimis. Where either the respondent's ad valorem weighted-average dumping margin is zero or de minimis, or an importer-specific ad valorem assessment rate is zero or de minimis,²⁵ we will instruct CBP to liquidate the appropriate entries without regard to antidumping duties.

²³ In these preliminary results, Commerce applied the assessment rate calculation method adopted in Antidumping Proceedings: Calculation of the Weighted-Average Dumping Margin and Assessment Rate in Certain Antidumping Proceedings: Final Modification, 77 FR 8101 (February 14, 2012).

²⁴ For calculated (estimated) ad valorem importer-specific assessment rates used in determining whether the per-unit assessment rate is de minimis, see Memoranda, “Preliminary Results Margin Calculation for Datong Juqiang Activated Carbon Co., Ltd.”; and “Antidumping Duty Administrative Review of Certain Activated Carbon from the People's Republic of China: Preliminary Results Calculation Memorandum for Jilin Bright,” both dated concurrently with this notice, and accompanying Margin Calculation Program Logs and Outputs.

²⁵ See 19 CFR 351.106(c)(2).

For the respondents that were not selected for individual examination in this administrative review but qualified for a separate rate, the assessment rate will be the margin established for these companies in the final results of this review.

For the final results, if we continue to treat the six companies, identified at Appendix II to this notice, as part of the China-wide entity, we will instruct CBP to apply a per-unit assessment rate of $2.42 per kilogram to all entries of subject merchandise during the POR which were exported by those companies.²⁶

²⁶ See, e.g., Certain Activated Carbon from the People's Republic of China: Final Results of Antidumping Duty Administrative Review; 2012-2013, 79 FR 70163, 70165 (November 25, 2014).

For entries that were not reported in the U.S. sales data submitted by companies individually examined during this review, Commerce will instruct CBP to liquidate such entries at the rate for the China-wide entity.²⁷ Additionally, if Commerce determines that an exporter under review had no shipments of the subject merchandise, any suspended entries that entered under that exporter's case number (i.e., at that exporter's cash deposit rate) will be liquidated at the rate for the China-wide entity.²⁸

²⁷ See NME Practice for a full discussion.

²⁸ Id.

In accordance with section 751(a)(2)(C) of the Act, the final results of this review shall be the basis for the assessment of antidumping duties on entries of merchandise covered by the final results of this review and for future deposits of estimated antidumping duties, as applicable.

Cash Deposit Requirements

The following cash deposit requirements will be effective upon publication of the final results of this administrative review for shipments of the subject merchandise from China entered, or withdrawn from warehouse, for consumption on or after the publication date, as provided by section 751(a)(2)(C) of the Act: (1) For each specific company listed in the final results of this review, the cash deposit rate will be equal to the weighted-average dumping margin established in the final results of this review (except that if the ad valorem rate is de minimis, then the cash deposit rate will be zero); (2) for previously investigated or reviewed Chinese and non-Chinese exporters not listed above that have separate rates, the cash deposit rate will continue to be the existing exporter-specific cash deposit rate; (3) for all Chinese exporters of subject merchandise that have not been found to be entitled to a separate rate, the cash deposit rate will be the rate for the China-wide entity; and (4) for all non-Chinese exporters of subject merchandise which have not received their own separate rate, the cash deposit rate will be the rate applicable to the Chinese exporter that supplied that non-Chinese exporter. These cash deposit requirements, when imposed, shall remain in effect until further notice.

Notification to Importers

This notice also serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

This administrative review and notice are issued and published in accordance with sections 751(a)(1) and 777(i)(1) of the Act, 19 CFR 351.213, and 19 CFR 351.221(b)(4).

Dated: April 29, 2022.
Lisa W. Wang,
Assistant Secretary for Enforcement and Compliance.

Appendix I

List of Topics Discussed in the Preliminary Decision Memorandum

I. Summary

II. Background

III. Scope of the Order

IV. Discussion of the Methodology

V. Recommendation

Appendix II

Companies Preliminarily Not Eligible for a Separate Rate and Treated as Part of the China-Wide Entity

1. Jacobi Carbons AB/Tianjin Jacobi International Trade Co., Ltd./Jacobi Carbons Industry (Tianjin) Co., Ltd./Jacobi Adsorbent Materials

2. Meadwestvaco Trading (Shanghai)

3. Shanxi DMD Corp.

4. Shanxi Tianxi Purification Filter Co., Ltd.

5. Sinoacarbon International Trading Co., Ltd.

6. Tianjin Maijin Industries Co., Ltd.

[FR Doc. 2022-09799 Filed 5-5-22; 8:45 am]

BILLING CODE 3510-DS-P